DEPARTMENT OF ENERGY

Federal Energy Regulatory Commission

Combined Notice of Filings #1

Take notice that the Commission received the following electric corporate filings:

Docket Numbers: EC22-30-000.

Applicants: TENASKA GEORGIA PARTNERS, L.P., GEPIF III Concord Holdco LLC.

Description: Joint Application for Authorization Under Section 203 of the Federal Power Act of Tenaska Georgia Partners, L.P., et al.

Filed Date: 12/28/21.

Accession Number: 20211228-5079.

Comment Date: 5 p.m. ET 1/18/22.

Take notice that the Commission received the following electric rate filings:

Docket Numbers: ER10-276-006; ER10-1790-020; ER10-2595-005; ER21-1716-002.

Applicants: BP Energy Retail LLC, Flat Ridge Wind Energy, LLC, BP Energy Company, Rolling Thunder I Power Partners, LLC.

Description: Triennial Market Power Analysis for Southwest Power Pool Inc. Region of Rolling Thunder I Power Partners, LLC, et al.

Filed Date: 12/27/21.

Accession Number: 20211227-5261.

Comment Date: 5 p.m. ET 2/25/22.

Docket Numbers: ER10-1107-001.

Applicants: Pacific Gas and Electric Company.

Description: Updated Market Power Analysis for the CAISO BAA Market of Pacific Gas and Electric Company.

Filed Date: 12/23/21.

Accession Number: 20211223-5272.

Comment Date: 5 p.m. ET 2/21/22.

Docket Numbers: ER10-2302-010; ER19-1342-003; ER19-1343-003; ER19-2674-003.

Applicants: New Mexico PPA Corporation, NMRD Data Center II, LLC, NMRD Data Center III, LLC, Public Service Company of New Mexico.

Description: Triennial Market Power Analysis for Southwest Region of Public Service Company of New Mexico, et al.

Filed Date: 12/27/21.

Accession Number: 20211227-5258.

Comment Date: 5 p.m. ET 2/25/22.

Docket Numbers: ER10-2357-010; ER10-2361-011; ER10-2368-009; ER10-2369-009; ER10-2382-010; ER10-2385-011; ER10-1238-001; ER10-1239-001; ER10-1200-001.

Applicants: Elkhorn Ridge Wind, LLC, San Juan Mesa Wind Project, LLC, Taloga Wind, LLC, Laredo Ridge Wind, LLC, Wildorado Wind, LLC, Sleeping Bear, LLC, Broken Bow Wind, LLC, Crofton Bluffs Wind, LLC, Clearway Power Marketing LLC.

Description: Triennial Market Power Analysis for Southwest Power Pool Inc. Region of Sleeping Bear, LLC, et al.

Filed Date: 12/28/21.

Accession Number: 20211228-5080.

Comment Date: 5 p.m. ET 2/28/22.

Docket Numbers: ER10-2437-017.

Applicants: Arizona Public Service Company.

Description: Triennial Market Power Analysis for Southwest Region of Arizona Public Service Company.

Filed Date: 12/28/21.

Accession Number: 20211228-5135.

Comment Date: 5 p.m. ET 2/28/22.

Docket Numbers: ER10-2794-034; ER12-1825-032; ER14-2672-019.

Applicants: EDF Energy Services, LLC, EDF Industrial Power Services (CA), LLC, EDF Trading North America, LLC.

Description: Triennial Market Power Analysis for Southwest Power Pool Inc. Region of EDF Trading North America, LLC, et al.

Filed Date: 12/28/21.

Accession Number: 20211228-5132.

Comment Date: 5 p.m. ET 2/28/22.

Docket Numbers: ER10-3063-003.

Applicants: Green Country Energy, LLC.

Description: Triennial Market Power Analysis for Southwest Power Pool Inc. Region of Green Country Energy, LLC.

Filed Date: 12/28/21.

Accession Number: 20211228-5086.

Comment Date: 5 p.m. ET 2/28/22.

Docket Numbers: ER12-2037-014; ER12-2314-010; ER15-2129-007; ER15-2130-007; ER15-2131-007; ER16-2360-009; ER17-2258-005; ER20-1515-002.

Applicants: Milligan 1 Wind LLC, Rock Falls Wind Farm LLC, Great Western Wind Energy, LLC, Milo Wind Project, LLC, Roosevelt Wind Project, LLC, Slate Creek Wind Project, LLC, Spinning Spur Wind LLC, Spearville 3, LLC.

Description: Triennial Market Power Analysis for Southwest Power Pool Inc. Region of Spearville 3, LLC, et al.

Filed Date: 12/28/21.

Accession Number: 20211228-5147.

Comment Date: 5 p.m. ET 2/28/22.

Docket Numbers: ER18-920-010.

Applicants: Marco DM Holdings, L.L.C.

Description: Notice of Change in Status of Marco DM Holdings, L.L.C., et al.

Filed Date: 12/23/21.

Accession Number: 20211223-5271.

Comment Date: 5 p.m. ET 1/13/22.

Docket Numbers: ER20-2878-000; ER20-2878-010.

Applicants: Pacific Gas and Electric Company.

Description: Informational Filing to correct Wholesale Distribution Rates for the City and County of San Francisco, et al. effective January 1, 2022 of Pacific Gas and Electric Company.

Filed Date: 12/21/21.

Accession Number: 20211221-5275.

Comment Date: 5 p.m. ET 1/11/22.

Docket Numbers: ER20-681-005.

Applicants: Tri-State Generation and Transmission Association, Inc.

Description: Triennial Market Power Analysis for Southwest and Northwest Regions and Notice of Change in Status of Tri-State Generation and Transmission Association, Inc.

Filed Date: 12/27/21.

Accession Number: 20211227-5262.

Comment Date: 5 p.m. ET 2/25/22.

Docket Numbers: ER21-2900-003.

Applicants: Duke Energy Florida, LLC, Duke Energy Carolinas, LLC, Duke Energy Progress, LLC.

Description: Tariff Amendment: Duke Energy Florida, LLC submits tariff filing per 35.17(b): Amendment to Joint OATT (Network Contract Demand Service) to be effective 11/17/2021.

Filed Date: 12/28/21.

Accession Number: 20211228-5000.

Comment Date: 5 p.m. ET 1/18/22.

Docket Numbers: ER22-69-000.

Applicants: Indeck Niles, LLC.

Description: Response to December 1, 2021 Deficiency Letter of Indeck Niles, LLC.

Filed Date: 12/23/21.

Accession Number: 20211223-5275.

Comment Date: 5 p.m. ET 1/13/22.

Docket Numbers: ER22-657-001.

Applicants: PJM Interconnection, L.L.C.

Description: Tariff Amendment: Errata to ISA SA No. 6248, Queue No. AE2-206 in Docket No. ER22-657 to be effective 11/15/2021.

Filed Date: 12/28/21.

Accession Number: 20211228-5141.

Comment Date: 5 p.m. ET 1/18/22.

Docket Numbers: ER22-730-000.

Applicants: PJM Interconnection, L.L.C.

Description: § 205(d) Rate Filing: Original Service Agreement No. 6272—NITSA among PJM and AEPEP to be effective 1/1/2022.

Filed Date: 12/28/21.

Accession Number: 20211228-5044.

Comment Date: 5 p.m. ET 1/18/22.

Docket Numbers: ER22-731-000.

Applicants: AEP Texas Inc.

Description: § 205(d) Rate Filing: AEPTX-RE Bravepost Solar Cancellation to be effective 1/2/2022.

Filed Date: 12/28/21.

Accession Number: 20211228-5053.

Comment Date: 5 p.m. ET 1/18/22.

Docket Numbers: ER22-732-000.

Applicants: Sayreville Power Generation LP.

Description: § 205(d) Rate Filing: Notice of Succession and Revisions to Rate Schedule to be effective 12/8/2021.

Filed Date: 12/28/21.

Accession Number: 20211228-5054.

Comment Date: 5 p.m. ET 1/18/22.

Docket Numbers: ER22-733-000.

Applicants: ISO New England Inc., New England Power Pool Participants Committee.

Description: § 205(d) Rate Filing: ISO New England Inc. submits tariff filing per 35.13(a)(2)(iii: ISO-NE and NEPOOL; Transmission Planning Improvements to be effective 2/28/2022.

Filed Date: 12/28/21.

Accession Number: 20211228-5067.Comment Date: 5 p.m. ET 1/18/22.

Docket Numbers: ER22-734-000.

Applicants: SR Arlington, LLC.

Description: Baseline eTariff Filing: Market-Based Rate Application to be effective 12/29/2021.

Filed Date: 12/28/21.

Accession Number: 20211228-5099.

Comment Date: 5 p.m. ET 1/18/22.

Docket Numbers: ER22-735-000.

Applicants: Avista Corporation.

Description: § 205(d) Rate Filing: Avista Open Access Transmission Tariff Revisions, Attachments M, N, Q to be effective 3/31/2022.

Filed Date: 12/28/21.

Accession Number: 20211228-5102.

Comment Date: 5 p.m. ET 1/18/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 28, 2021.
Debbie-Anne A. Reese,
Deputy Secretary.

[FR Doc. 2021-28477 Filed 1-3-22; 8:45 am]

BILLING CODE 6717-01-P